ENVIRONMENTAL PROTECTION AGENCY

[FRL-6933-7]

Ward Transformer Superfund Site Notice of Prospective Purchaser Agreement Raleigh, Wake County, NC

AGENCY: Environmental Protection Agency.

ACTION: Notice of proposed settlement.

SUMMARY: Under the Comprehensive Environmental Response, Compensation and Liability Act (CERCLA), the United States Environmental Protection Agency (EPA) proposes to enter into a “Prospective Purchaser Agreement” (P.A.) concerning property that has been potentially contaminated by releases from the Ward Transformer Superfund Site (Ward Site) in Raleigh, Wake County, North Carolina (P.A. Property). EPA proposes to enter into the P.A. with Brier Creek Commons LP (Brier Creek LP). The P.A. obligates Brier Creek LP to cooperate fully with any response action EPA may take on the P.A. Property. The P.A. resolves Brier Creek LP's potential liability for the Existing Contamination at the Ward Site and/or the P.A. Property which may otherwise result from it obtaining an easement across the P.A. Property and constructing a roadway. This protection is contingent upon Brier Creek LP fulfilling its obligations under the P.A. EPA will consider public comments on the proposed settlement for thirty (30) days.

EPA may withdraw from or modify the proposed settlement should such comments disclose facts or considerations which indicate the proposed settlement is inappropriate, improper or inadequate. Copies of the proposed settlement are available from: Ms. Paula V. Bachelor, Waste Management Division, U.S. EPA, Region 4, Atlanta Federal Center, 61 Forsyth Street, SW., Atlanta, Georgia 30303-3104, 404/562-8887.

Written comments may be submitted to Ms. Bachelor at the address noted above within thirty (30) calendar days of the date of this publication.

Dated: December 27, 2000.
James T. Miller,
Acting Chief, CERCA Program Services Branch, Waste Management Division.

[FR Doc. 01-1348 Filed 1-16-01; 8:45 am]

BILLING CODE 6560-50-P